SURFACE TRANSPORTATION BOARD

[Docket No. FD 36862]

Port Harbor Railroad, Inc.—Lease and Operation Exemption—America's Central Port District

Port Harbor Railroad, Inc. (Port Harbor), a Class III railroad, has filed a verified notice of exemption pursuant to 49 CFR 1150.41 to lease from America's Central Port District (ACPD) and operate approximately 2.97 miles of rail line from milepost 0.00 to milepost 2.97 within the cities of Granite City, and Madison, in Madison County, Ill. (the Line).

According to the verified notice, Port Harbor first entered into an agreement with Tri-City Regional Port District (now known as ACPD) to lease and operate the Line in 2010. Port Harbor R.R.—Lease & Operation Exemption—Line of Tri-City Reg'l Port Dist., FD 35374 (STB served May 7, 2010). In 2016, Port Harbor and ACPD agreed to extend the term of the original lease but did not seek Board authority for the extension. Port Harbor and ACPD have now agreed to a new lease to continue operating on the Line and to make other commercial changes. Port Harbor certifies that the new lease does not include an interchange commitment. According to the verified notice, Port Harbor will begin operations under the new lease on or after the effective date of the exemption.

Port Harbor certifies that its projected annual revenues as a result of this transaction will not exceed those that would qualify it as a Class III rail carrier and will not exceed $5 million.

The transaction may be consummated on or after July 17, 2025, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than July 10, 2025 (at least seven days before the exemption becomes effective).

All pleadings, referring to Docket No. FD 36862, must be filed with the Surface Transportation Board either via e-filing on the Board's website or in writing addressed to 395 E Street SW, Washington, DC 20423-0001. In addition, a copy of each pleading must be served on Port Harbor's representative, Eric M. Hocky, Clark Hill PLC, Two Commerce Square, 2001 Market St., Suite 2620, Philadelphia, PA 19103.

According to Port Harbor, this action is categorically excluded from environmental review under 49 CFR 1105.6(c) and from historic reporting requirements under 49 CFR 1105.8(b).

Board decisions and notices are available at www.stb.gov.

Decided: June 27, 2025.

By the Board, Scott M. Zimmerman, Acting Director, Office of Proceedings.

Kenyatta Clay,
Clearance Clerk.

[FR Doc. 2025-12289 Filed 6-30-25; 8:45 am]

BILLING CODE 4915-01-P